DEPARTMENT OF AGRICULTURE

Grain Inspection, Packers and Stockyards Administration

7 CFR Part 868

United States Standards for Milled Rice; Correction

AGENCY: Grain Inspection, Packers and Stockyards Administration, USDA.

ACTION: Correcting amendments.

SUMMARY: This document contains corrections to the final regulations 7 CFR part 868, which were published in the Federal Register of September 30, 2002. The regulations related to changes to the U.S. Standards for Milled Rice which established a new level of milling degree, “hard milled”, to the existing milling requirements and eliminated reference to “lightly milled” from the milling requirements of U.S. Standards for Milled Rice.

DATES: Effective June 29, 2005.

FOR FURTHER INFORMATION CONTACT: Vicki Lacefield, at her e-mail address: Vicki.A.Lacefield@usda.gov or telephone her at (202) 720-0252.

SUPPLEMENTARY INFORMATION: On September 30, 2002, the Grain Inspection, Packers and Stockyards Administration (GIPSA) published in the Federal Register (67 FR 61249) a direct final rule that revised the United States Standards for Milled Rice to establish a new level of milling degree, “hard milled,” to the existing milling requirements and to eliminate reference to “lightly milled” from the milling requirements of U.S. Standards for Milled Rice.

Need for Correction

As published, the direct final rule contains errors which may prove to be confusing and needs to be clarified. In Section 868.310(f) U.S. Sample grade, the word “re” should read “or”; in § 868.311, the correct wording for that section should read “Grades and grade requirements for the class Second Head Milled Rice. (See also § 868.315)”, instead of “Grades and grade requirements for the class Second Head Milled Rice. (See also § 868.305.)”; and in § 868.312, the correct wording for that section should read “Grades and grade requirements for the class Screenings Milled Rice. (See also § 868.315.)”, instead of “Grades and grade requirements for the class Brewers Milled Rice. (See also § 868.315).”

List of Subjects in 7 CFR Part 868

Agricultural commodities, Rice.

PART 868—GENERAL REGULATIONS AND STANDARDS FOR CERTAIN AGRICULTURAL COMMODITIES

1. The authority citation for part 868 continues to read as follows:

Authority: Secs. 202-208, 60 Stat. 1087, as amended (7 U.S.C. 1621 et seq.).

2. Amend § 868.310 by revising note (f) of the table to read as follows:

§ 868.310 Grades and grade requirements for the classes Long Grain Milled Rice, Medium Grain Milled Rice, Short Grain Milled Rice, and Mixed Milled Rice. (See also § 868.315.)

* * * * *

(f) Contains two or more live or dead weevils or other insects, insect webbing, or insect refuse;

* * * * *

3. Revise the heading of § 868.311 read as follows:

§ 868.311 Grades and grade requirements for the class Second Head Milled Rice. (See also § 868.315.)

4. Revise the heading of § 868.312 to read as follows:

§ 868.312 Grade and grade requirements for the class Screenings Milled Rice. (See also § 868.315.)

David R. Shipman,
Acting Administrator, Grain Inspection, Packers and Stockyards Administration.

[FR Doc. 05-12815 Filed 6-28-05; 8:45 am]

BILLING CODE 3410-EN-P